DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by May 2, 2002.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: Saad E. Zara, Tucson, AZ, PRT-054471.

The applicant requests a permit to import the sport-hunted trophy of one male bontebok (Damaliscus pygargus dorcas) culled from a captive herd maintained under the management program of the Republic of South Africa, for the purpose of enhancement of the survival of the species.

Applicant: Henry Doorly Zoo, Omaha, NE, PRT-051012.

The applicant requests a permit to export biological samples taken from captive-born seladang (Bos gaurus) going to the University of Guelph, Ontario, Canada, for the purpose of scientific research. This notification covers activities conducted by the applicant over a five year period.

Applicant: Circus Tihany Spectacular, Sarasota, FL, PRT-768272.

The applicant requests the re-issuance of their permit to export, re-export and re-import captive-born tigers (Panthera tigris) and progeny of the animals currently held by the applicant and any animals acquired in the United States by the applicant to/from worldwide locations to enhance the survival of the species through conservation education. This notification covers activities conducted by the applicant over a three year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18). Written data, comments, or requests for copies of the complete applications or requests for a public hearing on these applications should be submitted to the Director (address above). Anyone requesting a hearing should give specific reasons why a hearing would be appropriate. The holding of such a hearing is at the discretion of the Director.

Applicant: Dr. Annalisa Berta, San Diego State University, San Diego, CA, PRT-025336.

Permit Type: Import.

Name and Number of Animals: 2 polar bear (Ursis maritimus) specimens.

Summary of Activity to be Authorized: The applicant requests a permit to import one male carcass and one female skull from Canada for the purpose of comparative scientific research on the cranial, dental and postcranial anatomy of polar bears.

Source of Marine Mammals: subsistence hunting.

Period of Activity: Up to one year.

Concurrent with the publication of this notice in the Federal Register, the Division of Management Authority is forwarding copies of the above applications to the Marine Mammal Commission and the Committee of Scientific Advisors for their review.

Applicant: Richard Wayne Fuller, Albuquerque, NM, PRT-054557.

The applicant requests a permit to import a polar bear (Ursus maritimus) sport hunted from the Lancaster Sound polar bear population in Canada for personal use.

Applicant: Howard Neal Stoneback, West Bloomfield, MI, PRT-054556.

The applicant requests a permit to import a polar bear (Ursus maritimus) sport hunted from the Western Hudson Bay polar bear population in Canada for personal use.

The U.S. Fish and Wildlife Service has information collection approval from OMB through March 31, 2004, OMB Control Number 1018-0093. Federal Agencies may not conduct or sponsor and a person is not required to respond to a collection of information unless it displays a current valid OMB control number.

Dated: March 22, 2002.
Anna Barry,
Senior Permit Biologist, Branch of Permits, Division of Management Authority.

[FR Doc. 02-7968 Filed 4-1-02; 8:45 am]

BILLING CODE 4310-55-U